DEPARTMENT OF ENERGY

Federal Energy Regulatory Commission

[Project No. 12532-006]

Pine Creek Mine, LLC; Notice of Effectiveness of Withdrawal of Petition for Declaratory Order

On February 12, 2016, Pine Creek Mine, LLC (PCM) filed an application for an original license to construct, operate, and maintain the proposed 1.5-megawatt Pine Creek Mine Tunnel Hydroelectric Project in Inyo County, California. On June 4, 2020, PCM filed a petition for an order declaring that the California State Water Resources Control Board waived its authority to issue water quality certification for the project under Section 401 of the Clean Water Act, 33 U.S.C. 1341(a)(1). On September 29, 2020, PCM filed a letter notifying the Commission that it was withdrawing its petition for declaratory order.

No motion in opposition to the notice of withdrawal has been filed, and the Commission has taken no action to disallow the withdrawal. Accordingly, pursuant to Rule 216(b) of the Commission's Rules of Practice and Procedure,¹ withdrawal of the petition became effective on October 14, 2020, and this proceeding is hereby terminated.

¹ 18 CFR 385.216(b) (2020).

Dated: November 3, 2020.
Nathaniel J. Davis, Sr.,
Deputy Secretary.

[FR Doc. 2020-24861 Filed 11-9-20; 8:45 am]

BILLING CODE 6717-01-P